DEPARTMENT OF TRANSPORTATION

Federal Railroad Administration

49 CFR Parts 222 and 229

[Docket No. FRA-1999-6439, Notice No. 12]

RIN 2130-AA71

Use of Locomotive Horns at Highway-Rail Grade Crossings

AGENCY: Federal Railroad Administration (FRA), Department of Transportation (DOT).

ACTION: Interim final rule; extension of comment period.

SUMMARY: On December 18, 2003, FRA published an Interim Final Rule (IFR) in the Federal Register (68 FR 70585) addressing the use of locomotive horns at highway-rail grade crossings. As FRA is interested in receiving public comments on all aspects of the IFR, FRA held a public hearing in Washington, DC on February 4, 2004. FRA has, however, received a number of requests to extend the comment period to give interested parties additional time to review, analyze, and submit comments on the IFR. After considering these requests, FRA has decided to extend the comment period until April 19, 2004. This notice announces the extension of the comment period.

DATES: Written Comments: Comments must be received by April 19, 2004. Comments received after that date will be considered to the extent possible without incurring additional expense or delay.

ADDRESSES: You may submit comments identified by DOT DMS Docket Number FRA-1999-6439 by any of the following methods:

• Web site: http://dms.dot.gov. Follow the instructions for submitting comments to the DOT electronic docket Web site.

• Fax: Comments may be faxed to the following number: 1-202-493-2251.

• Mail: Comments may be mailed to the Docket Management Facility at the U.S. Department of Transportation, 400 Seventh Street, SW., Nassif Building, Room PL-401, Washington, DC 20590-001.

• Hand Delivery: Hand deliver comments to Room PL-401 on the plaza level of the Nassif Building, which is located at 400 Seventh Street, SW., Washington, DC between 9 a.m. and 5 p.m., Monday through Friday, except Federal holidays.

• Federal e-Rulemaking Portal: Go to http://www.regulations.gov. Follow the online instructions for submitting comments.

Instructions: All submissions must include the agency name and docket name and docket number or Regulatory Identification Number (RIN) for this rulemaking. Note that all comments received will be posted without change to http://dms.dot.gov, including any personal information provided.

Docket: For access to the docket to read background documents or comments received, go to http://dms.dot.gov at any time or to Room PL-401 on the plaza level of the Nassif Building, 400 Seventh Street, SW., Washington, DC between 9 a.m. and 5 p.m., Monday through Friday, except Federal holidays.

FOR FURTHER INFORMATION CONTACT: Ron Ries, Office of Safety, FRA, 1120 Vermont Avenue, NW., Washington, DC 20590 (telephone 202-493-6299); or Kathryn Shelton, Office of Chief Counsel, FRA, 1120 Vermont Avenue, NW., Washington, DC 20590 (telephone 202-493-6038).

Issued in Washington, DC, on February 9, 2004.
Allan Rutter,
Administrator.

[FR Doc. 04-3181 Filed 2-12-04; 8:45 am]

BILLING CODE 4910-06-P